DEPARTMENT OF HOMELAND SECURITY

Federal Emergency Management Agency

[Docket ID FEMA-2024-0002]

Final Flood Hazard Determinations

AGENCY: Federal Emergency Management Agency, Department of Homeland Security.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below. The FIRM and FIS report are the basis of the floodplain management measures that a community is required either to adopt or to show evidence of having in effect in order to qualify or remain qualified for participation in the Federal Emergency Management Agency's (FEMA's) National Flood Insurance Program (NFIP).

DATES: The date of September 12, 2024 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Nicholas A. Shufro,
Assistant Administrator (Acting) for Risk Management,Federal Emergency Management Agency, Department of Homeland Security.

Community | Community map repository address
Riverside County, California and Incorporated Areas
Docket No.: FEMA-B-2296
City of Corona | City Hall, 400 South Vicentia Avenue, Corona, CA 92882.
City of Eastvale | City Hall, Public Works Department, 12363 Limonite Avenue, Suite 910, Eastvale, CA 91752.
City of Jurupa Valley | City Hall, 8930 Limonite Avenue, Jurupa Valley, CA 92509.
City of Norco | City Hall, 2870 Clark Avenue, Norco, CA 92860.
City of Riverside | Public Works, 3900 Main Street, 4th Floor, Riverside, CA 92522.
Unincorporated Areas of Riverside County | Riverside County Flood Control and Water Conservation District, 1995 Market Street, Riverside, CA 92501.
Hinsdale County, Colorado and Incorporated Areas
Docket No.: FEMA-B-2336
Town of Lake City | Town Hall, 230 North Bluff Street, Lake City, CO 81235.
Unincorporated Areas of Hinsdale County | Hinsdale County Courthouse, 311 Henson Street, Lake City, CO 81235.
Lincoln County, Colorado and Incorporated Areas
Docket No.: FEMA-B-2332
Town of Limon | Town Hall, 100 Civic Center Drive, Limon, CO 80828.
Unincorporated Areas of Lincoln County | Lincoln County Complex, 103 3rd Avenue, Hugo, CO 80821.
Doniphan County, Kansas and Incorporated Areas
Docket No.: FEMA-B-2179
City of Elwood | City Hall, 207 North 6th Street, Elwood, KS 66024.
City of Highland | City Hall, 220 West Main Street, Highland, KS 66035.
City of Leona | Doniphan County Courthouse Planning and Zoning, 120 East Chestnut Street, Troy, KS 66087.
City of Severance | Doniphan County Courthouse Planning and Zoning, 120 East Chestnut Street, Troy, KS 66087.
City of Troy | City Hall, 137 West Walnut Street, Troy, KS 66087.
City of Wathena | City Hall, 206 St. Joseph Street, Wathena, KS 66090.
City of White Cloud | City Hall, 208 Main Street, White Cloud, KS 66094.
Iowa Tribe of Kansas and Nebraska | Iowa Tribe of Kansas and Nebraska Tribal Administrative Office, 3345B Thrasher Road, White Cloud, KS 66094.
Unincorporated Areas of Doniphan County | Doniphan County Courthouse Planning and Zoning, 120 East Chestnut Street, Troy, KS 66087.
Stevens County, Minnesota and Incorporated Areas
Docket No.: FEMA-B-2068, FEMA-B-2191, FEMA-B-2350
City of Alberta | City Hall, 305 Main Street, Alberta, MN 56207.
City of Donnelly | City Hall, 107 3rd Street, Donnelly, MN 56235.
City of Morris | City Hall, 610 Oregon Avenue, Morris, MN 56267.
Township of Swan Lake | Swan Lake Township Hall, 43967 150th Street, Morris, MN 56267.
Unincorporated Areas of Stevens County | Stevens County Courthouse, 400 Colorado Avenue, Morris, MN 56267.
Tulsa County, Oklahoma and Incorporated Areas
Docket No.: FEMA-B-2303
City of Bixby | Public Works Dawes Building, 113 West Dawes Avenue, Bixby, OK 74008.
City of Broken Arrow | Operations Building, 485 North Poplar Avenue, Broken Arrow, OK 74012.
City of Tulsa | Stormwater Design Office, 2317 South Jackson Avenue, Suite 302, Tulsa, OK 74107.
Unincorporated Areas of Tulsa County | Tulsa County Headquarters, 218 West 6th Street, Suite 210, Tulsa, OK 74119.
Hamlin County, South Dakota and Incorporated Areas
Docket No.: FEMA-B-2320
City of Castlewood | City Hall, 204 East Main Street, Castlewood, SD 57223.
City of Estelline | City Office, 117 North Main Street, Estelline, SD 57234.
City of Lake Norden | City Office, 508 Main Avenue, Lake Norden, SD 57248.
Unincorporated Areas of Hamlin County | Hamlin County Courthouse, 300 4th Street, Hayti, SD 57241.

[FR Doc. 2024-12523 Filed 6-6-24; 8:45 am]

BILLING CODE 9110-12-P